DEPARTMENT OF HEALTH AND HUMAN SERVICES

Administration for Children and Families

[Office of Management and Budget #: 0970-0425]

Proposed Information Collection Activity; Children's Justice Act Program Instruction

AGENCY: Children's Bureau, Administration for Children and Families, U.S. Department of Health and Human Services.

ACTION: Request for public comments.

SUMMARY: The Administration for Children and Families (ACF) is requesting a 3-year extension of the Children's Justice Act (CJA) Program Instruction (Office of Management and Budget (OMB) #: 0970-0425, expiration March 31, 2026). There are no changes requested to the instructions.

DATES: Comments due February 27, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: The CJA Program Instruction, prepared in response to the enactment of the CJA Title I of Public Law 111-320, Child Abuse Prevention and Treatment Act Reauthorization of 2010, provides direction to the states and territories to accomplish the purposes of assisting states in developing, establishing, and operating programs designed to improve (1) the assessment and investigation of suspected child abuse and neglect cases, including cases of suspected child sexual abuse and exploitation, in a manner that limits additional trauma to the child and the child's family; (2) the assessment and investigation of cases of suspected child abuse-related fatalities and suspected child neglect-related fatalities; (3) the investigation and prosecution of cases of child abuse and neglect, including child sexual abuse and exploitation; and (4) the assessment and investigation of cases involving children with disabilities or serious health-related problems who are suspected victims of child abuse or neglect. This Program Instruction contains information collection requirements that are found in Public Law 111-320 at sections 107(b) and 107(d), and pursuant to receiving a grant award. The information being collected is required by statute to be submitted pursuant to receiving a grant award. The information submitted will be used by the agency to ensure compliance with the statute; to monitor, evaluate, and measure grantee achievements in addressing the investigation and prosecution of child abuse and neglect; and to report to Congress.

Respondents: State governments.

Annual Burden Estimates

The length of the CJA Program Instruction has been reduced by 18 percent from 17 pages to 14 pages. Edits have been made to remove requests for information not required by statute, reduce duplicative information, and simplify language. As a result of the reduction in the length of time needed to both read and respond to the Program Instruction, the estimated response burden has been lowered by 17 percent from 60 hours to 50 hours per response.

Instrument | Total number of respondents | Annual number of responses per respondent | Average burden hours per response | Annual burden hours
Annual Report and Application | 52 | 1 | 50 | 2,600

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 5106c sec. 107 (b)4; and 42 U.S.C. 5106 sec. 107 (B)5.

Mary C. Jones,
ACF/OPRE Certifying Officer.

[FR Doc. 2025-23910 Filed 12-23-25; 8:45 am]

BILLING CODE 4184-01-P